DEPARTMENT OF STATE

[Public Notice 7141]

In the Matter of the Designation of Tehrik-e Taliban Pakistan (TTP) also known as Tehrik-I-Taliban Pakistan also known as Tehrik-e-Taliban also known as Pakistani Taliban also known as Tehreek-e-Taliban as a Foreign Terrorist Organization pursuant to Section 219 of the Immigration and Nationality Act, as Amended

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Tehrik-e Taliban Pakistan (TTP), also known as Tehrik-I-Taliban Pakistan, also known as Tehrik-e-Taliban, also known as Pakistani Taliban, also known as Tehreek-e-Taliban.

Therefore, I hereby designate the aforementioned organization and its aliases as a foreign terrorist organization pursuant to section 219 of the INA.

This determination shall be published in the Federal Register.

Dated: August 12, 2010.
Hillary Rodham Clinton,
Secretary of State.

[FR Doc. 2010-21854 Filed 8-31-10; 8:45 am]

BILLING CODE 4710-10-P